GENERAL SERVICES ADMINISTRATION

[Notice-ME-2024-02; Docket No. 2024-0002; Sequence No. 26]

Notice of General Services Administration's Office of Government-Wide Policy Annual IT Modernization Summit AGENCY: Office of Government-Wide Policy (OGP), General Services Administration (GSA).

ACTION: Notice of hybrid summit.

SUMMARY: GSA, in partnership with the Information Technology Industry Council (ITI), is hosting the Annual IT Modernization Summit to bring the federal and industry communities together for a series of panel discussions covering a broad spectrum of topics such as IPv6, infrastructure, artificial intelligence, and advanced computing.

DATES: Tuesday, June 11, from 9:00 a.m. to 4:00 p.m., Eastern Time (ET).

ADDRESSES: All attendees, including industry partners, must register for the event here: https://gsa.zoomgov.com/webinar/register/2817141347446/WN_wqOmHBZcQ0-DiER5s7ZG2Q.

Members of the press are invited to attend but are required to register with the GSA Press Office via email to press@gsa.gov by Friday, June 7, 2024.

FOR FURTHER INFORMATION CONTACT: GSA's IT Modernization Division(dccoi@gsa.gov) and/or Tom Santucci thomas.santucci@gsa.gov 202-230-4822.

SUPPLEMENTARY INFORMATION:

Background

The current policy climate indicates the federal government is taking concrete steps to solidify the United States as a leader in IT modernization. This is evident with policy releases such as M-21-07 and M-24-10.

It is widely recognized that full transition to IPv6 is the only viable option to ensure future growth and innovation in internet technology and services. The federal government must expand and enhance its strategic commitment to the transition to IPv6 in order to keep pace with and capitalize on industry trends. The Office of Management and Budget's (OMB) M-21-07 “Completing the Transition to IPv6” provides key milestone dates for agencies to transition into IPv6-only technology stacks. In FY24, agencies are expected to reach 50% IPv6-only network environments. The Federal IPv6 Task Force has been helping agencies overcome challenges and identify best practices for achieving a full transition to IPv6.

Artificial Intelligence (AI) is making waves in both the private and public sectors as one of the most powerful technologies available. With the release of M-24-10 “Advancing Governance, Innovation, and Risk Management for Agency Use of Artificial Intelligence,” OMB outlines the expectations for agencies to strengthen AI governance, advance responsible AI innovation, and manage the risks from the use of AI.

Format

The annual IT Modernization Summit convenes leaders from the federal government and industry to discuss their experiences with federal IT modernization. The summit will include keynote speakers, panel discussions, and Fireside Chats with featured speakers.

If you have questions for the panelists, you can email them to dccoi@gsa.gov.

Special Accommodations

ASL Interpreter will be in attendance.

Zoom will have the option to enable closed captioning. If additional accommodations are needed, please note them on the Zoom Webinar registration form.

Live In-Person and Webinar Speakers (Subject to Change Without Notice)

Hosted by:

• Tom Santucci, Director, IT Modernization; Office of Government-wide Policy

• Robert Sears, Director, N-Wave, National Oceanic and Atmospheric Administration; Office of Chief Information Officer (CIO)

• Gordon Bitko, Executive Vice President of Policy, Public Sector, Information Technology Industry Council (ITIC)

Agenda Topic Areas

• Past to Present to Future of Information Technology

• Power of AI and Data Centers

• IPv6 and the Cloud

• High Performance Computing (HPC)

Thomas Santucci,
Director, Division of IT Modernization, Office of Technology Policy, Office of Government-wide Policy, General Services Administration.

[FR Doc. 2024-11436 Filed 5-23-24; 8:45 am]

BILLING CODE 6820-68-P